OFFICE OF PERSONNEL MANAGEMENT

Federal Employees Health Benefits Program: Extension of Deadline for New Plan Applications

AGENCY: Office of Personnel Management.

ACTION: Notice.

SUMMARY: The Office of Personnel Management (OPM) is extending the deadline for receipt of applications from high deductible health benefits plans wishing to participate in the Federal Employees Health Benefits (FEHB) Program.

EFFECTIVE DATE: April 29, 2004.

FOR FURTHER INFORMATION CONTACT: Karen Leibach, (202) 606-0004.

SUPPLEMENTARY INFORMATION: The FEHB regulation at 5 CFR 890.203(a) describes the application process and deadline for comprehensive medical plans (usually referred to as health maintenance organizations) wishing to participate in the FEHB Program. The regulation states that plans must submit their application and supporting documentation by January 31 “or another date specified by OPM.”

For the contract year beginning January 1, 2005, OPM is extending this application deadline. OPM will consider applications received by June 1, 2004. Health plans wishing to apply should contact Bill Stuart at OPM at (202) 606-0737 or william.stuart@opm.gov as soon as possible. Prospective applicants interested in offering a high deductible health plan can find additional information relating to high deductible plans at http://www.opm.gov/insure/health.

U.S. Office of Personnel Management.
Kay Coles James,
Director.

[FR Doc. 04-9743 Filed 4-28-04; 8:45 am]

BILLING CODE 6325-39-P